DEPARTMENT OF HEALTH AND HUMAN SERVICES

Centers for Disease Control and Prevention

[Docket Number NIOSH-109]

Review of NIOSH Draft Current Intelligence Bulletin, “A Strategy for Assigning the New NIOSH Skin Notations for Chemicals”

AGENCY: The National Institute for Occupational Safety and Health (NIOSH) of the Centers for Disease Control and Prevention (CDC), Department of Health and Human Services (HHS).

ACTION: Notice of Public Meeting and availability for Public Comment.

SUMMARY: The National Institute for Occupational Safety and Health (NIOSH) of the Centers for Disease Control and Prevention (CDC) is conducting a public review of the NIOSH document “CIB: A Strategy for Assigning the New NIOSH Skin Notations for Chemicals.” This draft Current Intelligence Bulletin (CIB) was developed to provide the scientific rationale and framework for a strategy for the assignment of multiple skin notations capable of distinguishing between systemic, localized, and sensitizing health effects of dermal chemical exposures. The strategy has been designed to (1) communicate the current state of knowledge on hazards to workers' health from dermal exposures, (2) address the conceptual shortcomings of the current NIOSH skin notation represented by the symbol [skin], (3) recognize the health risks associated with contact of the skin with chemicals beyond dermal absorption, and (4) increase the transparency of the process for assigning the new NIOSH skin notations. The CIB can be found at: http://www.cdc.gov/niosh/review/public/109.

Public Meeting Time and Date: 9 a.m.-4 p.m. EDT, November 6, 2008.

Place: NIOSH, Robert A. Taft Laboratories, Taft Auditorium, 4676 Columbia Parkway, Cincinnati, Ohio 45226.

Status: The forum will include scientists and representatives from various government agencies, industry, labor, and other stakeholders, and is open to the public, limited only by the space available (the room accommodates approximately 80 people). Due to limited space, notification of intent to attend the meeting must be made to the NIOSH Docket Officer, no later than October 22, 2008. The NIOSH Docket Officer can be reached at (513) 533-8611 or by e-mail at niocindocket@cdc.gov. Requests to attend the meeting will be accommodated on a first-come basis.

Non-U.S. Citizens: Because of CDC Security Regulations, any non-U.S. citizen wishing to attend this meeting must provide the following information in writing to the NIOSH Docket Officer at the address below no later than October 15, 2008.

1. Name:

2. Gender:

3. Date of Birth:

4. Place of Birth (city, province, state, country):

5. Citizenship:

6. Passport Number:

7. Date of Passport Issue:

8. Date of Passport Expiration:

9. Type of Visa:

10. U.S. Naturalization Number (if a naturalized citizen):

11. U.S. Naturalization Date (if a naturalized citizen):

12. Visitor's Organization:

13. Organization Address:

14. Organization Telephone Number:

15. Visitor's Position/Title within the Organization:

This information will be transmitted to the CDC Security Office for approval. Visitors will be notified as soon as approval has been obtained.

Purpose of the Meeting: To discuss and obtain comments on the draft CIB, “A Strategy for Assigning the New NIOSH Skin Notations for Chemicals.” Special emphasis will be placed on discussion of the following issues:

1. Are the proposed classes of skin notations appropriate?

2. Are the proposed criteria for assigning each type of skin notation appropriate?

3. Is the proposed assignment of multiple skin notations useful for protecting workers from dermal hazards?

4. Should the sensitizing effects (SEN) notation apply strictly to allergic contact dermatitis or is it appropriate to assign the SEN notation for other immune-mediate responses, such as respiratory sensitization, airway hyperactivity and mucosal inflammation, associated with dermal exposure to a compound?

5. Does the proposed harmonization scheme found in Appendix G.2 link the new NIOSH skin notations and The Globally Harmonized System of Classification and Labeling of Chemicals (GHS) assignments sufficiently?

6. Should additional information be included within document? If so, what?

7. Do the data cited support the objectives of the document?

8. Are the conclusions appropriate in light of the current understanding of the toxicological data?

This document may be found at: http://www.cdc.gov/niosh/review/public/109/.

Written comments may be submitted to the NIOSH Docket Officer, Robert A. Taft Laboratories, 4676 Columbia Parkway, M/S C-34, Cincinnati, OH 45226, telephone (513) 533-8611, facsimile (513) 533-8230. Comments may also be submitted via e-mail to niocindocket@cdc.gov. All electronic comments should be formatted as Microsoft Word. Comments must be submitted to NIOSH no later than November 7, 2008, and should reference docket number NIOSH-109 in the subject heading. Oral comments made at the public meeting must also be submitted to the docket in writing in order to be considered by the Agency.

All information received in response to this notice will be available for public examination and copying at the NIOSH Docket Office, 4676 Columbia Parkway, Cincinnati, Ohio 45226.

Contact Person for Technical Information: Scott Dotson, Industrial Hygienist, NIOSH, CDC, telephone (513) 533-8540, M/S C-32, Robert A. Taft Laboratories, 4676 Columbia Parkway, Cincinnati, Ohio 45226.

Dated: September 15, 2008.
James D. Seligman,
Chief Information Officer, Centers for Disease Control and Prevention.

[FR Doc. E8-22190 Filed 9-22-08; 8:45 am]

BILLING CODE 4163-19-P